NATIONAL AERONAUTICS AND SPACE ADMINISTRATION

[Notice: (15-053)]

NASA Advisory Council; Institutional Committee; Meeting

AGENCY: National Aeronautics and Space Administration.

ACTION: Notice of Meeting.

SUMMARY: In accordance with the Federal Advisory Committee Act, Public Law 92-463, as amended, the National Aeronautics and Space Administration announces a meeting of the Institutional Committee of the NASA Advisory Council (NAC). This committee reports to the NAC.

DATES: Tuesday, July 28, 2015, 8:30 a.m.-5:45 p.m., Local Time; and Wednesday, July 29, 2015, 8:00 a.m.-10:00 a.m., Local Time.

ADDRESSES: Jet Propulsion Laboratory, Building 183, Room 328, 4800 Oak Grove Drive, Pasadena, CA 91109.

FOR FURTHER INFORMATION CONTACT: Mr. Todd Mullins, Executive Secretary for the NAC Institutional Committee, NASA Headquarters, Washington, DC 20546, phone number 202-358-3831, or todd.mullins@nasa.gov.

SUPPLEMENTARY INFORMATION: The meeting will be open to the public up to the seating capacity of the room. This meeting is also available telephonically and by WebEx. You must use a touch tone phone to participate in this meeting Any interested person may dial the toll free access number 844-467-6272 or toll access number 720-259-6462, and then the numeric participant passcode: 180093 followed by the # sign. To join via WebEx on July 28, the link is https://nasa.webex.com/, the meeting number is 993 032 544 and the password is Meeting2015! (Password is case sensitive.) To join via WebEx on July 29, the link is https://nasa.webex.com/, the meeting number is 998 221 846 and the password is Meeting2015! (Password is case sensitive.) NOTE: If dialing in, please “mute” your telephone. The agenda for the meeting will include the following:

—Business Services Assessment Status

—IT Security Status

—Jet Propulsion Laboratory—NASA Management Office Overview

—Committee Discussion

Attendees will be required sign a register and to comply with Jet Propulsion Laboratory (JPL) security requirements including presentation of a valid picture ID (such as a driver's license for U.S. Citizens; Permanent Resident green card; or passport/visa for non-U.S. Citizens) before receiving admittance to JPL. Due to the Real ID Act, Public Law 109-13, any attendees with driver's licenses issued from non-compliant states/territories must present a second form of identification: [Federal employee badge; passport; active military identification card; enhanced driver's license; U.S. Coast Guard Merchant Mariner card; Native American tribal document; school identification accompanied by an item from LIST C (documents that establish employment authorization) from the “List of the Acceptable Documents” on Form I-9]. Non-compliant states/territories are: American Samoa, Arizona, Idaho, Louisiana, Maine, Minnesota, New Hampshire, and New York. Individuals without proper identification will not be admitted to the JPL. Members of the public interested in attending this meeting must contact Ms. Helen N. Paley of JPL at phone number 818-354-6427 or helen.n.paley@jpl.nasa.gov to receive a listing of the information required prior to admittance to JPL. Completed information spreadsheet must be emailed to Ms. Paley by no later than Friday, July 17, 2015. It is imperative that this meeting be held on these dates to accommodate the scheduling priorities of the key participants.

Patricia D. Rausch,
Advisory Committee Management Officer, National Aeronautics and Space Administration.

[FR Doc. 2015-16826 Filed 7-9-15; 8:45 am]

BILLING CODE 7510-13-P